ENVIRONMENTAL PROTECTION AGENCY

[ER-FRL-9041-2]

Environmental Impact Statements; Notice of Availability

Responsible Agency: Office of Federal Activities, General Information (202) 564-7156 or https://www2.epa.gov/nepa/.

Weekly receipt of Environmental Impact Statements

Filed 08/27/2018 Through 08/31/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180203, Draft Supplement, USN, HI, Surveillance Towed Array Sensor System (SURTASS LFA) Sonar, Comment Period Ends: 10/22/2018, Contact: Patrick Havel 703-695-8266.

EIS No. 20180204, Final, USACE, AZ, Ray Mine Tailings Storage Facility, Review Period Ends: 10/09/2018, Contact: Michael Langley 602-689-0606.

EIS No. 20180205, Revised Draft, USFWS, WA, Revised Draft Environmental Impact Statement for a Long-term Conservation Strategy for the Marbled Murrelet, Comment Period Ends: 11/06/2018, Contact: Mark Ostwald 360-753-9564.

EIS No. 20180206, Revised Draft, USACE, NY, Integrated Hurricane Sandy General Reevaluation Report and Environmental Impact Statement, Atlantic Coast of New York, East Rockaway Inlet to Rockaway Inlet and Jamaica Bay, Comment Period Ends: 10/22/2018, Contact: Daria Mazey 917-790-8726.

EIS No. 20180207, Final, USACE, NE, Missouri River Recovery Management Plan, Review Period Ends: 10/09/2018, Contact: Tiffany Vanosdall 402-995-2695.

EIS No. 20180208, Draft, BLM, OR, Tucker Hill Perlite Mine Expansion Plan of Operations Amendment No. 7, Comment Period Ends: 10/22/2018, Contact: Paul Whitman 541-947-6110.

Amended Notices

EIS No. 20180124, Draft, USFS, MT, Draft Environmental Impact Statement for the Draft Revised Forest Plan Helena—Lewis and Clark National Forest, Revision to the FR Notice Published 06/08/2018, Extend Comment Period from 09/06/2018 to 10/09/2018, Contact: Deborah Entwistle 406-495-3774.

EIS No. 20180185, Draft, BLM, UT, Grand Staircase-Escalante National Monument-Grand Staircase, Kaiparowits, and Escalante Canyon Units and Federal Lands Previously Included in the Monument that are excluded from the Boundaries Draft Resource Management Plans and Associated Environmental Impact Statement, Revision to FR Notice Published 08/17/2018, Extend comment period from 11/15/2018 to 11/30/2018, Contact: Matt Betenson 435-644-1200.

EIS No. 20180189, Draft, NRC, LA, License Renewal for Waterford Steam Electric Station, Unit 3, NUREG-1437, Supplement 59, Correction to FR Notice Published 08/24/2018, List correct project title, Contact: Elaine Keegan 301-415-8517.

Dated: September 4, 2018.
Robert Tomiak,
Director, Office of Federal Activities.

[FR Doc. 2018-19424 Filed 9-6-18; 8:45 am]

BILLING CODE 6560-50-P